DEPARTMENT OF TRANSPORTATION

Federal Aviation Administration

Noise Compatibility Program for John Glenn Columbus International Airport, Columbus, Ohio

AGENCY: Federal Aviation Administration, DOT.

ACTION: Notice of receipt and request for review of the noise compatibility program and acceptance of noise exposure maps.

SUMMARY: The Federal Aviation Administration (FAA) announces its determination the noise exposure maps submitted by Columbus Regional Airport Authority for John Glenn Columbus International Airport comply with the applicable statutory and regulatory requirements. This notice also announces the start of the FAA review of the noise compatibility program submitted for John Glenn Columbus International Airport and the availability of this program for public review and comment. The John Glenn Columbus International Airport noise compatibility program will be approved or disapproved on or before April 12, 2026.

DATES: The effective date of the FAA acceptance of the noise exposure maps and of the start of its review of the associated noise compatibility program is October 14, 2025. The public comment period ends December 13, 2025.

FOR FURTHER INFORMATION CONTACT: Gordon Bowdell, Detroit Airports District Office, 11677 S Wayne Road, Ste. 107, Romulus, Michigan 48174-1412, Tel: 734-229-2900. Comments on the proposed noise compatibility program should be submitted to the above office.

SUPPLEMENTARY INFORMATION: In accordance with title 49, United States Code (U.S.C.) section 47503 of the Aviation Safety and Noise Abatement Act, an airport operator may submit to the FAA, noise exposure maps (NEMs) depicting non-compatible uses and other information as of the date the map was submitted. In addition, and in accordance with 49 U.S.C. 47504, an airport operator that submits an NEM the FAA determined complied with statutory and regulatory requirements, may submit for FAA approval, a noise compatibility program (NCP) identifying measures the airport operator has taken or proposes to take to reduce existing non-compatible land uses and prevents the introduction of additional non-compatible uses.

On June 23rd, 2025, Columbus Regional Airport Authority submitted noise exposure maps (NEMs), descriptions and other supporting documentation for John Glenn Columbus International Airport for FAA's review and acceptance. The NEMs must include a description of estimated aircraft operations during a forecast period that is at least five years in the future and how those operations will affect the map. The specific documentation determined to constitute the NEMs; Letter of Transmittal; Sponsor's Certificate; Exhibit NEM-1 Existing (2024) Noise Exposure Map; Exhibit NEM-2 Future (2029) Noise Exposure Map; Chapter 1; Exhibit 1-1 Noise Compatibility Planning Process; Exhibit 1-2 Airport Location; Exhibit 1-3 Existing Airport Layout; Table 1-1 Based Aircraft; Table 1-2 Summary of Average-Annual Day Operations; Chapter 2; Exhibit 2-1 Airport Environs and General Study Area; Exhibit 2-2 Existing Land Uses; Table 2-1 Franklin County Airport Environs Overlay District Land Use Compatibility Standards; Table 2-2 City of Columbus Airport Environs Overlay District Land Use Compatibility Standards; Table 2-3 Population Change 2020-2023; Chapter 3; Table 3-1 Areas Within Existing (2024) Noise Exposure Contour; Table 3-2 Comparison of Areas Within Existing (2024) and Future (2029) Noise Exposure Contour; Table 3-3 Existing (2024) Baseline Housing Population and Noise-Sensitive Facility Incompatibilities; Table 3-4 Future (2029) Baseline Housing Population and Noise-Sensitive Facility Incompatibilities; Table 3-5 Existing (2024) Baseline Versus Future (2029) Baseline Housing Population and Noise-Sensitive Facility Incompatibilities; Chapter 4; Table 4-1 2024 Noise Compatibility Program Recommendations; Table 4-2 Future (2029) NEM/NCP Housing Population and Noise-Sensitive Facilities Incompatibilities; Table 4-3 2024 NCP Implementation Costs; Appendix A; Table A-1 Land Use Compatibility Guidelines; Appendix B; Table B-1 Acoustical Measurement Instrumentation; Table B-2 Field Noise Measurement Sites; Table B-3 Short Term Field Noise Measurement Program Summary; Table B-4 Noise Levels at Permanent Noise Monitor Sites; Table B-5Aircraft Noise Single Event Data; Table B-6 Summary of Noise Complaints; Table B-7 Noise Complaints by Time of Day; Exhibit B-1; Appendix C; Table C-1 Summary of Average-Annual Day Operations Existing (2024) Baseline; Table C-2 Existing (2024) Average-Annual Day Operations by Aircraft Type; Table C-3 Existing (2024) Runway End Utilization; Table C-4 Existing (2024) Arrival Flight Track Utilization; Table C-5 Existing (2024) Departure Flight Track Utilization; Table C-6 Existing (2024) Touch-and-Go Flight Track Utilization; Table C-7 Existing (2024) Stage Lengths; Table C-8 Existing (2024) Run-up Operations; Table C-9 Summary of Average-Annual Day Operations Future (2029) Baseline; Table C-10 Future (2029) Average-Annual Day Operations by Aircraft Type; Table C-11 Future (2029) Stage Lengths; Table C-12 Future (2029) Run-up Operations; Exhibit C-10 East Flow Large Jet Tracks; Exhibit C-11 East Flow Regional Jet Tracks; Exhibit C-12 East Flow Prop Aircraft Tracks; Exhibit C-13 West Flow Large Jet Tracks; Exhibit C-14 West Flow Regional Jet Tracks; Exhibit C-15 West Flow Prop Aircraft Tracks; Exhibit C-16; Appendix D; Table D-1 Generalized Land Use Classifications; Table D-2 Noise-Sensitive Public Facilities; Table D-3 Historic Sites Within General Study Area; Table D-4 Generalized Zoning Classifications; Exhibit D-1; Appendix E; Table E-1 Future (2029) Baseline Housing Population and Noise-Sensitive Facility Incompatibilities; Appendix F; Appendix G; Table G-1 Technical Advisory Committee (TAC) Membership; Appendix H required by 14 CFR 150.101 and 49 U.S.C sections 47503 and 47506.

The FAA completed its review of the NEMs and supporting documentation and determined the NEMs comply with the requirements of 49 U.S.C. 47503 and 14 CFR part 150. This determination is effective on October 14, 2025. FAA's determinations for this NEM submitted by Columbus Regional Airport Authority is limited to a finding that the maps were developed in accordance with 49 U.S.C. 47503 and the procedures in appendix A of 14 CFR part 150. FAA's determination does not constitute approval of the Columbus Regional Airport Authority data, information or plans, or constitute a commitment to approve a noise compatibility program or to fund the implementation of that program. If questions arise concerning the precise relationship of specific properties to noise exposure contours depicted on an NEM it should be noted the FAA is not involved in any way in determining the relative locations of specific properties with regard to the depicted noise contours, or in interpreting the NEMs to resolve questions concerning, for example, which properties should be covered by the provisions of 49 U.S.C. 47506. These functions are inseparable from the land use control and planning responsibilities of local government. These local responsibilities are not changed in any way under 14 CFR part 150 or through FAA's review of the NEMs. Therefore, the responsibility for the detailed overlaying of noise exposure contours onto the map depicting properties on the surface rests exclusively with the Columbus Regional Airport Authority that submitted the NEMs or with those public agencies and planning agencies with which consultation is required. The FAA relied on the certification by the Columbus Regional Airport Authority this required consultation has been accomplished per 14 CFR 150.21 and 49 U.S.C. 47503. Further, FAA is reviewing a proposed noise compatibility program (NCP) for John Glenn Columbus International Airport which FAA formally received for John Glenn Columbus International Airport. The formal review period, limited by law to a maximum of 180 days will be completed on or before April 12, 2026. Preliminary review of the submitted material indicates that it conforms to the requirements for submittal of an NCP, but further review will be necessary prior to FAA approval or disapproval of the program. FAA approval will only indicate the measures would, if implemented, be consistent with the purposes of 14 CFR part 150. The primary considerations in the evaluation process are whether the proposed measures will reduce existing noncompatible uses and prevent or reduce the probability of additional noncompatible uses and whether the proposed measures will impose an undue burden on interstate and foreign commerce or reduce safety or adversely affect the safe and efficient use of airspace. Interested persons are invited to comment on the proposed program with specific reference to these factors. The FAA, to the extent practicable, will consider all comments other than those properly addressed to local land use authorities. Copies of the John Glenn Columbus International Airport NEMs and the proposed NCP are available for examination on the internet at: www.airportprojects.net/cmh-part150/home/documents-reports/.

The Columbus Regional Airport Authority has also made a hard copy of these documents available for review at Columbus Regional Airport Authority, John Glenn Columbus International Airport, Administrative Offices, 4600 International Gateway, Columbus, OH 43219.

Questions regarding this notice may be directed to the individual named above under the heading, FOR FURTHER INFORMATION CONTACT.

Issued in Des Plaines, Illinois, on October 14, 2025.
James Gregory Keefer,
Director, Airports Division, Great Lakes Region.

[FR Doc. 2025-22810 Filed 12-12-25; 8:45 am]

BILLING CODE 4910-13-P